DEPARTMENT OF COMMERCE

International Trade Administration

[A-427-801, A-428-801, A-475-801, A-588-804, A-559-801, A-401-801, A-549-801, A-412-801]

Antifriction Bearings (Other Than Tapered Roller Bearings) and Parts Thereof From France, Germany, Italy, Japan, Singapore, Sweden, Thailand, and the United Kingdom; Amended Final Results of Antidumping Duty Administrative Reviews

AGENCY: Import Administration, International Trade Administration, Department of Commerce.

ACTION: Notice of final court decision and amended final results of administrative reviews.

SUMMARY: The United States Court of International Trade and the United States Court of Appeals for the Federal Circuit have affirmed the Department of Commerce's final remand results affecting final assessment rates for the administrative reviews of the antidumping duty orders on antifriction bearings (other than tapered roller bearings) and parts thereof from France, Germany, Italy, Japan, Singapore, Sweden, Thailand, and the United Kingdom. The classes or kinds of merchandise covered by these reviews are ball bearings and parts thereof, cylindrical roller bearings and parts thereof, and spherical plain bearings and parts thereof. The period of review is May 1, 1993, through April 30, 1994. As there are now final and conclusive court decisions in these actions, we are amending our final results of reviews and we will subsequently instruct the U.S. Customs Service to liquidate entries subject to these reviews.

EFFECTIVE DATE: November 15, 2000.

FOR FURTHER INFORMATION CONTACT: Thomas Schauer or Richard Rimlinger, Import Administration, International Trade Administration, U.S. Department of Commerce, 14th Street and Constitution Avenue, N.W., Washington, DC 20230; telephone (202) 482-4733.

Applicable Statute

Unless otherwise indicated, all citations to the Tariff Act of 1930, as amended (the Tariff Act), are references to the provisions in effect as of December 31, 1994. In addition, unless otherwise indicated, all citations to the Department of Commerce's (the Department's) regulations are to the regulations as codified at 19 CFR Part 353 (1995).

SUPPLEMENTARY INFORMATION:

Background

On June 28, 1996, the Department published its final results of administrative reviews of the antidumping duty order on antifriction bearings (other than tapered roller bearings) and parts thereof, from Thailand, covering the period May 1, 1993, through April 30, 1994 (61 FR 33711), and on December 17, 1996, the Department published its final results of administrative reviews of the antidumping duty orders on antifriction bearings (other than tapered roller bearings) and parts thereof, from France, Germany, Italy, Japan, Singapore, Sweden, and the United Kingdom, covering the period May 1, 1993, through April 30, 1994 (61 FR 66471) (collectively, AFBs 5). The classes or kinds of merchandise covered by these reviews are ball bearings and parts thereof (BBs), cylindrical roller bearings and parts thereof (CRBs), and spherical plain bearings and parts thereof (SPBs). Subsequently, one domestic producer, the Torrington Company, and a number of other interested parties filed lawsuits with the U.S. Court of International Trade (CIT) challenging the final results. These lawsuits were litigated at the CIT and the United States Court of Appeals for the Federal Circuit (CAFC). In the course of this litigation, the CIT issued a number of orders and opinions, of which the following have resulted in changes to the antidumping margins calculated in AFBs 5:

The Torrington Co. v. United States, Slip Op. 97-105 (July 28, 1997), with respect to Thailand;

FAG U.K. Ltd., The Barden Corporation (U.K.) Ltd., FAG Bearings Corporation, RHP Bearings Ltd., NSK Bearings Europe Ltd. and NSK Corporation v. United States, Slip Op. 98-133 (September 16, 1998), with respect to the United Kingdom;

SKF USA Inc. v. United States, Slip Op. 99-43 (May 13, 1999), with respect to Italy;

SKF USA Inc. v. United States, Slip Op. 99-56 (June 29, 1999), with respect to France;

NTN Bearing Corp. of America, et al. v. United States, Slip Op. 99-71 (July 29, 1999), with respect to Japan;

SKF USA Inc. v. United States, Slip Op. 99-127 (December 2, 1999), with respect to Germany;

SKF USA Inc. v. United States, Slip Op. 00-2 (January 5, 2000), with respect to Sweden.

In the context of the above-cited litigation, the CIT ordered the Department to make methodological changes and to recalculate the antidumping margins for certain firms under review. Specifically, the CIT ordered the Department to make the following changes on a company-specific basis:

NMB Thailand—determine a proper methodology for calculating profit for constructed value;

FAG UK—(1) recalculate FAG U.K.’s dumping margin, treating it as a distinct entity from Barden, and (2) correct a clerical error;

Barden—(1) recalculate Barden's dumping margin, treating it as a distinct entity from FAG U.K., (2) recalculate the dumping margin without regard to the results of the test for below-cost sales, and (3) correct a clerical error;

NSK-RHP—(1) exclude transactions not supported by consideration from the U.S. sales database, (2) exclude sample transfers which lacked consideration from the home-market sales database for the purpose of calculating profit for constructed value, (3) recalculate constructed value by applying the arm's-length and profit-variance tests to related-party transactions involving consideration and using sales of such or similar merchandise for any remaining unrelated-party sales, and (4) reduce the cost of manufacture and constructed value by post-sale domestic inland-freight costs;

SKF Italy—exclude sample transactions not supported by consideration from the U.S. sales database;

SKF France—exclude sample transactions not supported by consideration from the U.S. sales database;

NTN Japan—exclude sample transactions not supported by consideration from the U.S. sales database;

Koyo Seiko—determine whether it is possible to isolate and remove the portions of Koyo's home-market warranty expenses which relate to non-scope merchandise from the adjustment to foreign market value or to deny the adjustment if such an apportionment cannot be made;

SKF Germany—(1) exclude sample transactions not supported by consideration from the U.S. sales database, and (2) remove rebates paid on sales of non-scope merchandise from any adjustments made to SKF's foreign market value or, if there is no viable method to do so, deny the adjustment;

FAG Germany—apply the profit-variance test to each customer which failed the arm's-length test before calculating the profit element of constructed value;

SKF Sweden—(1) exclude sample transactions not supported by consideration from the U.S. sales database, (2) convert the difference-in-merchandise variable using the appropriate exchange rate, (3) convert the value for home-market variable cost of manufacturing from Swedish krona to U.S. dollars, (4) convert certain variables to reflect that they were reported in hundreds of Italian lira, and (5) correct the programming language that calculates home-market indirect selling expenses.

The CAFC affirmed the Department's final remand results affecting final assessment rates for all the above cases. As there are now final and conclusive court decisions in these actions, we are amending our final results of review in these matters, and we will subsequently instruct the U.S. Customs Service to liquidate entries subject to these reviews.

Amendment to Final Results

Pursuant to section 516A(e) of the Tariff Act, we are now amending the final results of administrative reviews of the antidumping duty orders on antifriction bearings (other than tapered roller bearings) and parts thereof from France, Germany, Italy, Japan, Singapore, Sweden, Thailand, and the United Kingdom, for the period May 1, 1993, through April 30, 1994. The revised weighted-average margins are as follows:

Company | BBs | CRBs | SPBs
France: SKF | 3.73 | (¹) | ³ 18.80
Germany:
FAG | 12.93 | 13.57 | ³ 2.00
SKF | 3.04 | 9.45 | 14.36
Italy: SKF | 3.21 | (²)
Japan:
Koyo Seiko | ³ 14.90 | ³ 6.53 | (¹)
NTN | 14.33 | ³ 11.05 | ³ 32.33
Sweden: SKF | 1.93 | ³ 0.00
Thailand: NMB/Pelmec | 0.23
United Kingdom:
Barden | 1.06 | (¹)
FAG | 3.31 | (¹)
NSK/RHP | 7.14 | 7.12
(¹) No shipments or sales subject to this review.
(²) Not subject to review.
(³) No change to the margin as a result of litigation.

Accordingly, the Department will determine and the U.S. Customs Service will assess appropriate antidumping duties on entries of the subject merchandise made by firms covered by these reviews. Individual differences between United States price and foreign market value may vary from the percentages listed above. For companies covered by these amended results, the Department will issue appraisement instructions to the U.S. Customs Service after publication of these amended final results of reviews.

This notice is published pursuant to section 751(a) of the Tariff Act.

Dated: November 3, 2000.
Richard W. Moreland,
Acting Assistant Secretary for Import Administration.

[FR Doc. 00-29257 Filed 11-14-00; 8:45 am]

BILLING CODE 3510-DS-P